DEPARTMENT OF ENERGY

Federal Energy Regulatory Commission

[Project No. 12187-016]

Price Dam Partnership, Limited; Notice of Request for Extension of Time to Commence and Complete Construction and Soliciting Comments, Motions to Intervene, and Protests

December 21, 2010.

Take notice that the following hydroelectric application has been filed with the Commission and is available for public inspection:

a. Application Type: Request for Extension of Time.

b. Project No.: 12187-016.

c. Date Filed: December 8, 2010.

d. Applicant: Price Dam Partnership, Limited.

e. Name of Project: Price Dam Hydroelectric Project.

f. Location of Project: At the existing St. Louis District's U.S. Army Corps of Engineers (Corps) Melvin Price Locks and Dam on the Mississippi River, in Madison County, Illinois. The project would occupy approximately 1.8 acres of Federal lands.

g. Filed Pursuant to: Public Law 111-60, 123 STAT. 1995.

h. Applicant Contact: Mr. John A. Whittaker, IV, Winston & Strawn LLP, 1700 K Street NW., Washington, DC 20006; (202) 282-5766 and e-mail jwhittak@winston.com.

i. FERC Contact: Kelly Houff, (202) 502-6393, Kelly.Houff@ferc.gov.

j. Deadline for filing comments, motions to intervene, and protests: January 21, 2011.

All documents may be filed electronically via the Internet. See, 18 CFR 385.2001(a)(1)(iii) or the instructions on the Commission's Web site at http://www.ferc.gov/docs-filing/efiling.asp. If unable to be filed electronically, documents may be paper-filed. To paper-file, an original and seven copies should be mailed to: The Secretary, Federal Energy Regulatory Commission, 888 First Street, NE., Washington, DC 20426. Commenters may submit comments up to 6,000 characters, without prior registration, using the eComment system at http://www.ferc.gov/docs-filing/ecomment.asp. You must include your name and contact information at the end of your comments.

Please include the project number (P-12187-016) on any comments, motions, or protests filed.

k. Description of Request: The licensee requests that the Commission grant a two-year extension of time from the existing deadline of July 28, 2011 to July 28, 2013 to commence project construction of the Price Dam Hydroelectric Project. Additionally, the licensee requests a two-year extension of time from July 28, 2014 to July 28, 2016 to complete project construction. This will be the second 2-year extension of three authorized by Public Law No. 111-60.

l. Location of the Application: A copy of the application is available for inspection and reproduction at the Commission's Public Reference Room, located at 888 First Street, NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules and Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Kimberly D. Bose,
Secretary.

[FR Doc. 2010-32644 Filed 12-27-10; 8:45 am]

BILLING CODE 6717-01-P